DEPARTMENT OF ENERGY

Federal Energy Regulatory Commission

Combined Notice of Filings #1

Take notice that the Commission received the following exempt wholesale generator filings:

Docket Numbers: EG23-263-000.

Applicants: Parliament Solar LLC.

Description: Parliament Solar LLC submits Notice of Self-Certification of Exempt Wholesale Generator Status.

Filed Date: 8/24/23.

Accession Number: 20230824-5177.

Comment Date: 5 p.m. ET 9/14/23.

Take notice that the Commission received the following electric rate filings:

Docket Numbers: ER21-829-001.

Applicants: Weaver Wind, LLC.

Description: Compliance filing: Notice of Change in Status to be effective 8/25/2023.

Filed Date: 8/24/23.

Accession Number: 20230824-5163.

Comment Date: 5 p.m. ET 9/14/23.

Docket Numbers: ER21-830-001.

Applicants: Weaver Wind Maine Master Tenant, LLC.

Description: Compliance filing: Notice of Change in Status to be effective 8/25/2023.

Filed Date: 8/24/23.

Accession Number: 20230824-5165.

Comment Date: 5 p.m. ET 9/14/23.

Docket Numbers: ER23-2147-001.

Applicants: Southwest Power Pool, Inc.

Description: Tariff Amendment: 1885R13 Evergy Kansas Central, Inc. NITSA NOA—Bronson to be effective 9/1/2023.

Filed Date: 8/25/23.

Accession Number: 20230825-5140.

Comment Date: 5 p.m. ET 9/15/23.

Docket Numbers: ER23-2224-001.

Applicants: Southwest Power Pool, Inc.

Description: Tariff Amendment: 1976R13 FreeState Electric Cooperative, Inc. NITSA and NOA to be effective 9/1/2023.

Filed Date: 8/25/23.

Accession Number: 20230825-5104.

Comment Date: 5 p.m. ET 9/15/23.

Docket Numbers: ER23-2255-001.

Applicants: Southwest Power Pool, Inc.

Description: Tariff Amendment: 3599R2 Missouri Electric Commission NITSA NOA to be effective 9/1/2023.

Filed Date: 8/25/23.

Accession Number: 20230825-5173.

Comment Date: 5 p.m. ET 9/15/23.

Docket Numbers: ER23-2278-001.

Applicants: Southwest Power Pool, Inc.

Description: Tariff Amendment: 1276R31 Evergy Metro NITSA NOA to be effective 9/1/2023.

Filed Date: 8/25/23.

Accession Number: 20230825-5153.

Comment Date: 5 p.m. ET 9/15/23.

Docket Numbers: ER23-2428-002.

Applicants: Bucksport Generation LLC.

Description: Tariff Amendment: Bucksport Generation LLC, IROL-CIP Rate Schedule Further Amendment to be effective 9/29/2023.

Filed Date: 8/24/23.

Accession Number: 20230824-5171.

Comment Date: 5 p.m. ET 9/14/23.

Docket Numbers: ER23-2703-000.

Applicants: MRP Elgin LLC.

Description: Initial rate filing: MRP Elgin LLC Initial Reactive Rate Schedule to be effective 8/25/2023.

Filed Date: 8/25/23.

Accession Number: 20230825-5047.

Comment Date: 5 p.m. ET 9/15/23.

Docket Numbers: ER23-2704-000.

Applicants: MRP Rocky Road LLC.

Description: Initial rate filing: MRP Rocky Road LLC Initial Reactive Rate Schedule to be effective 8/25/2023.

Filed Date: 8/25/23.

Accession Number: 20230825-5048.

Comment Date: 5 p.m. ET 9/15/23.

Docket Numbers: ER23-2705-000.

Applicants: Tri-State Generation and Transmission Association, Inc.

Description: § 205(d) Rate Filing: Initial Filing of Rate Schedule FERC No. 358 to be effective 7/26/2023.

Filed Date: 8/25/23.

Accession Number: 20230825-5075.

Comment Date: 5 p.m. ET 9/15/23.

Docket Numbers: ER23-2706-000.

Applicants: Tri-State Generation and Transmission Association, Inc.

Description: § 205(d) Rate Filing: Amendment to Rate Schedule FERC No. 39 to be effective 10/24/2023.

Filed Date: 8/25/23.

Accession Number: 20230825-5085.

Comment Date: 5 p.m. ET 9/15/23.

Docket Numbers: ER23-2707-000.

Applicants: Midcontinent Independent System Operator, Inc.

Description: § 205(d) Rate Filing: 2023-08-25_Tariff Sheet Consolidation True-Up Filing to be effective 6/1/2021.

Filed Date: 8/25/23.

Accession Number: 20230825-5091.

Comment Date: 5 p.m. ET 9/15/23.

Docket Numbers: ER23-2710-000.

Applicants: Mid-Atlantic Interstate Transmission, LLC, PJM Interconnection, L.L.C.

Description: § 205(d) Rate Filing: Mid-Atlantic Interstate Transmission, LLC submits tariff filing per 35.13(a)(2)(iii: MAIT submits one Construction Agreement, SA No. 6624 to be effective 10/25/2023.

Filed Date: 8/25/23.

Accession Number: 20230825-5149.

Comment Date: 5 p.m. ET 9/15/23.

Take notice that the Commission received the following electric reliability filings:

Docket Numbers: RR23-3-000.

Applicants: North American Electric Reliability Corporation.

Description: Request of North American Electric Reliability Corporation for Acceptance of 2024 Business Plans and Budgets of NERC and Regional Entities and for Approval of Proposed Assessments to Fund Budgets.

Filed Date: 8/24/23.

Accession Number: 20230824-5178.

Comment Date: 5 p.m. ET 9/14/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 25, 2023.
Kimberly D. Bose,
Secretary.

[FR Doc. 2023-18867 Filed 8-30-23; 8:45 am]

BILLING CODE 6717-01-P